POSTAL SERVICE

39 CFR Part 20

International Product and Price Changes

AGENCY: Postal Service ™

ACTION: Final rule.

SUMMARY: The Postal Service is revising Mailing Standards of the United States Postal Service, International Mail Manual (IMM®), to reflect the prices, product features, and classification changes to Competitive Services, as established by the Governors of the Postal Service.

DATES: Effective Date: January 26, 2014.

FOR FURTHER INFORMATION CONTACT: Rick Klutts at 813-877-0372.

SUPPLEMENTARY INFORMATION: New prices are available under Docket Number CP2014-5 on the Postal Regulatory Commission's Web site at http://www.prc.gov.

This final rule describes the international price and classification changes and the corresponding mailing standards changes for the following Competitive Services:

Global Express Guaranteed® (GXG®).

Priority Mail Express International™.

Priority Mail International®.

First-Class Package International Service™.

International Priority Airmail™ (IPA®).

International Surface Air Lift® (ISAL®).

Direct Sacks of Printed Matter to One Addressee (M-bags).

International Extra Services:

○ Certificate of Mailing.

○ Registered Mail™ Service.

○ Return Receipt Service.

○ Pickup On Demand® Service.

International Money Transfer Services:

○ Sure Money® (DineroSeguro®).

New prices are located on the Postal Explorer® Web site at http://pe.usps.com.

Global Express Guaranteed

Global Express Guaranteed (GXG) is an international expedited delivery service provided through an alliance with FedEx Express®. The price increase for GXG service averages 3.0 percent. The Commercial Base® price and Commercial Plus® price for customers that prepare and pay for GXG shipments via permit imprint, online at USPS.com®, or as registered end-users using an authorized PC Postage® vendor will remain a variable discount (based on the item's weight and price group) of up to 13 percent below the retail price for Commercial Base price and up to 20 percent below the retail price for Commercial Plus price. The price for GXG insurance is unchanged. In addition, the following product features and classification changes are made:

Commercial Base Price When Using Click-N-Ship for Business

To provide additional value, customers who prepare their GXG shipping label using Click-N-Ship for Business® and pay for the item's postage using their meter will be eligible to receive the applicable Commercial Base postage price. Such items paid with stamps, or if brought to a Postal Service retail counter for postage will continue to pay the retail price.

Priority Mail Express International

Priority Mail Express International service provides reliable, high-speed service to over 185 countries with a money-back, date-certain delivery guarantee to select destinations. The price increase for Priority Mail Express International service averages 1.3 percent. The Commercial Base price and Commercial Plus price for customers that prepare and pay for Priority Mail Express International shipments via permit imprint, online at USPS.com, or as registered end-users using an authorized PC Postage vendor will remain a variable discount (based on the item's weight and price group) of up to 11 percent below the retail price for Commercial Base price and up to 20 percent below the retail price for Commercial Plus price. The price for Priority Mail Express International insurance is unchanged. In addition, the following product features and classification changes are made:

Flat Rate Envelopes and Boxes

To provide additional incentives to commercial mailers who prepare items online, Commercial Base and Commercial Plus prices for Priority Mail Express International Flat Rate Envelopes and Flat Rate Boxes will be lower than the retail price. Currently, these flat-rated items are the same price regardless of price tier.

Commercial Base Price When Using Click-N-Ship for Business

To provide additional value, customers who prepare their Priority Mail Express International combined shipping and customs label using Click-N-Ship for Business and pay for the item's postage using their meter will be eligible to receive the applicable Commercial Base postage price. Such items paid with stamps, or if brought to a Postal Service retail counter for postage will continue to pay the retail price.

Mexico—Weight Limit Increase

For all price tiers, we are increasing the weight limit for Priority Mail Express International items sent to Mexico to 70 pounds.

Enhancements to Priority Mail Express International With Guarantee Service

Customers who prepare and pay for Priority Mail Express International With Guarantee service online with permit imprint, or PC Postage (including Click-N-Ship®) may be eligible for the date-certain postage refund. In addition, customers who prepare their Priority Mail Express International items using a combined shipping and customs label using Click-N-Ship for Business and pay for the item's postage using their meter, may also be eligible for the date-certain postage refund. Previously, a customer was required to present their item for mailing at a Postal Service retail counter to be eligible. This service is currently available to nine destination countries.

Priority Mail International

Priority Mail International offers economical prices for reliable delivery of documents and merchandise. The price increase for Priority Mail International service averages 1.1 percent. The Commercial Base price and Commercial Plus price for customers that prepare and pay for Priority Mail International items via permit imprint, online at USPS.com, or as registered end-users using an authorized PC Postage vendor will remain a variable discount (based on the item's weight and price group) of up to 13 percent below the retail price for Commercial Base price and up to 18 percent below the retail price for Commercial Plus price. The price for Priority Mail International insurance is unchanged. In addition, the following product features and classification changes are made:

Flat Rate Envelopes and Boxes

To provide additional incentives to commercial mailers who prepare items online, Commercial Base and Commercial Plus for Priority Mail International Flat Rate Envelopes and Flat Rate Boxes will be lower than the retail price. Currently, these flat-rated items are the same price regardless of price tier.

Commercial Base Price When Using Click-N-Ship for Business

To provide additional value, customers who prepare their Priority Mail International combined shipping and customs label using Click-N-Ship for Business and pay for the item's postage using their meter will be eligible to receive the applicable Commercial Base postage price. Such items paid with stamps, or if brought to a Postal Service retail counter for postage will continue to pay the retail price.

Minimum Size Requirement

We are changing the minimum size of a Priority Mail International parcel to stipulate that the surface area of the address side of the item to be mailed must be large enough to completely contain the postage, customs label, and any other applicable endorsements or markings.

Mexico—Weight Limit Increase

For all price tiers, we are increasing the weight limit for Priority Mail International items sent to Mexico to 70 pounds.

Electronic USPS Delivery Confirmation International

The Postal Service is adding the following 12 countries for Electronic USPS® Delivery Confirmation ™ International (E-USPS DELCON INTL ™) service:

○ Estonia

○ Finland

○ Gibraltar

○ Hungary

○ Italy

○ Latvia

○ Lithuania

○ Luxembourg

○ Malaysia

○ Malta

○ Portugal

○ Singapore

First-Class Package International Service

First-Class Package International Service is our most affordable international service for small packages weighing up to 4 pounds and that do not exceed $400 in value. The price increase for retail First-Class Package International Service averages 0.8 percent. First-Class Package International Service Commercial Base and Commercial Plus prices will remain unchanged. The Commercial Base price and Commercial Plus price for customers that prepare and pay for First-Class Package International Service items via permit imprint, online at USPS.com, or as registered end-users using an authorized PC Postage vendor will remain a variable discount (based on the item's weight and price group) of up to 13 percent below the retail price for Commercial Base price and up to 19 percent below the retail price for Commercial Plus price. In addition, the following product features and classification changes are made:

Commercial Base Price When Using Click-N-Ship for Business

To provide additional value, customers who prepare their First-Class Package International Service combined shipping and customs label using Click-N-Ship for Business and pay for the item's postage using their meter will be eligible to receive the applicable Commercial Base postage price. Such items paid with stamps, or if brought to a Postal Service retail counter for postage, will continue to pay the retail price.

Electronic USPS Delivery Confirmation International

The Postal Service is adding the following 12 countries for Electronic USPS Delivery Confirmation International service:

○ Estonia

○ Finland

○ Gibraltar

○ Hungary

○ Italy

○ Latvia

○ Lithuania

○ Luxembourg

○ Malaysia

○ Malta

○ Portugal

○ Singapore

Package Pickup and Pickup on Demand Service

Beginning January 26, 2014, First-Class Package International Service items will be eligible for Package Pickup or Pickup On Demand service.

Global Expedited Package Services

The Postal Service will offer Global Expedited Package Services (GEPS) customized agreements to First-Class Package International Service customers pursuant to the terms and conditions stipulated between the Postal Service and a particular customer. This update will also be reflected in PS Form 3700, Postage Statement—International Mail.

International Priority Airmail

International Priority Airmail (IPA) service, including IPA M-bags, is a commercial service designed for business mailers for volume mailings of First-Class Mail International postcards, letters, large envelopes (flats), and First-Class Package International Service packages (small packets). Overall, prices for IPA will decrease by 2.5 percent.

In addition, the following product features and classification changes are made:

Clarify That Not All IPA Mail Is Flown to the Destination Country

With this final rule, the Postal Service clarifies that not all IPA mail is flown to the destination country. For example, USPS may use surface transportation for IPA mail destined to Canada or Mexico.

Price Groups

Price groups increase from 16 to 20 (includes Worldwide nonpresort).

Separation by Price Group

Price groups 1-14 will have shaped-based pricing and will be require separate containers (i.e., letter trays for postcards and letter-size pieces, flat trays for flat-size pieces, and sacks for package-size pieces.)

Weight Limits for Flat-Size and Package-Size Items

The Postal Service decreases the maximum weight for flat-size items from 4 pounds to 17.6 ounces; increases the maximum weight limit for package-size items from 4 pounds to 4.4 pounds; and, finally, for IPA M-bags contents, increases the combined weight of each printed matter mailpiece and the related articles from 4 pounds to 4.4 pounds. Letter-size pieces are unchanged and their maximum weight remains at 3.5 ounces.

Decrease the Minimum Weight for Direct Country Price Tier

To qualify for the direct country price tier, we will decrease the minimum weight for a direct country container from 3 pounds to 2 pounds.

Destination Countries of Cuba, Iran, North Korea, Sudan, and Syria

On May 7, 2012, we temporarily suspended IPA service to Cuba, Iran, North Korea, Sudan, and Syria. Effective January 26, 2014 we will make this change permanent until such time as export sanctions are removed or exports to these countries can be suitably monitored. First-Class Mail International service and First Class Package International Service remains available to send letter-post items to these destinations.

International Surface Air Lift

International Surface Air Lift (ISAL) service, including ISAL M-bags, is a commercial service, which provides dispatch and transportation for mailers of volume mailings of all First-Class Mail International postcards, letters, large envelopes (flats), and First-Class Package International Service packages (small packets). Overall, prices for ISAL will decrease by 2.9 percent.

In addition, the following product features and classification changes are made:

Clarify That Not All ISAL Mail Is Flown to the Destination Country

With this final rule, the Postal Service clarifies that not all ISAL mail is flown to the destination country. For example, USPS may use surface transportation for ISAL mail destined to Canada or Mexico.

Price Groups

Price groups increase from 16 to 20 (includes Worldwide nonpresort).

Separation by Price Group

Price groups 1-14 will have shaped-based pricing and will require separate containers (i.e., letter trays for postcards and letter-size pieces, flat trays for flat-size pieces, and sacks for package-size pieces.)

Weight Limits for Flat-Size and Package-Size Items

The Postal Service decreases the maximum weight for flat-size items from 4 pounds to 17.6 ounces; increases the maximum weight limit for package-size items from 4 pounds to 4.4 pounds; and, finally, for ISAL M-bags contents, increases the combined weight of each printed matter mailpiece and related articles from 4 pounds to 4.4 pounds. Letter-size pieces are unchanged and their maximum weight remains at 3.5 ounces.

Decrease the Minimum Weight for Direct Country Price Tier

To qualify for the direct country price tier, we will decrease the minimum weight for a direct country container from 3 pounds to 2 pounds.

Destination Countries of Cuba, Iran, Sudan, and Syria

On May 7, 2012, we temporarily suspended ISAL service to Cuba, Iran, Sudan, and Syria. Effective January 26, 2014 we will make this change permanent until such time as export sanctions are removed or exports to these countries can be suitably monitored. First-Class Mail International service and First Class Package International Service remains available to send letter-post items to these destinations.

Direct Sacks of Printed Matter to One Addressee (M-Bags)

Airmail M-bags are direct sacks of printed matter sent to a single foreign addressee at a single address. The price increase for Airmail M-bags averages 2.9 percent.

International Extra Services, Pick Up on Demand Service, and International Money Transfer Services

Depending on country destination and mail type, customers may add a variety of extra services to their outbound shipments. International competitive extra services, Pick Up on Demand service, and International Money Transfer services are updated as follows:

Certificate of Mailing

The prices for Certificate of Mailing will increase on average by 9.7 percent.

Customs Clearance and Delivery Fee

The price for Customs Clearance and Delivery Fee will increase by 9.1 percent.

Registered Mail

The price for Registered Mail will increase by 5.4 percent.

Return Receipt

The price for Return Receipt will increase 7.1 percent.

Pickup on Demand

The price for Pickup on Demand is unchanged. In addition, we will offer this service for First-Class Package International Service.

International Money Transfer Services

The prices for International Money Transfer Services which include International Postal Money Orders, Money Order Inquiry Fee, and Sure Money (DineroSeguro) are unchanged. In addition, on December 1, 2012, we temporarily suspended the maximum purchase limit, the refund limit, and the change of payee limit to $1,500 for Sure Money transactions. We are making these limits permanent effective January 26, 2014.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

2 Conditions for Mailing

210 Global Express Guaranteed

* * * * *

213 Prices and Postage Payment Methods

* * * * *

[Revise the titles of 213.7 and 213.71 to read as follows:]

213.7 Online Methods

213.71 Online Prices—Commercial Base or Commercial Plus Prices

For selected destination countries, Global Express Guaranteed items qualify for discounted prices (equal to the Commercial Base price or Commercial Plus price) when mailers use one of the following online shipping methods:

[Revise item a to read as follows:]

a. Commercial Base Price: Click-N-Ship service using online postage; registered end-users of USPS-approved PC Postage products using online postage; or Click-N-Ship for Business using metered postage.

* * * * *

215 Mail Entry and Deposit

* * * * *

215.3 Pickup On Demand Service

* * * A pickup can include any or all of the following items:

[Revise the list to read as follows (to include First-Class Package International Service items):]

a. Global Express Guaranteed items.

b. Priority Mail Express International items.

c. Priority Mail International items.

d. First-Class Package International Service items.

e. Priority Mail Express items.

f. Priority Mail items.

g. Package Services items.

* * * * *

220 Priority Mail Express International

* * * * *

221 Description and Physical Characteristics

* * * * *

221.2 Priority Mail Express International With Guarantee Service

[Revise the introduction to read as follows:]

Priority Mail Express International With Guarantee service offers a date-certain, postage-refund guarantee. This service is available only to the following countries:

* * * * *

223 Prices and Postage Payment Methods

223.1 Prices

* * * * *

223.12 Commercial Base Prices

[Revise 223.12 to read as follows:]

A mailer who pays postage with a permit imprint under 223.222, or with the online methods described in 223.241, qualifies for the Priority Mail Express International Commercial Base prices, which are less than Priority Mail Express International retail prices.

* * * * *

223.2 Postage Payment Methods

* * * * *

[Revise the titles of 223.24 and 223.241 to read as follows:]

223.24 Online Methods

223.241 Online Prices—Commercial Base or Commercial Plus Prices

For selected destination countries, Priority Mail Express International items qualify for discounted prices (equal to the Commercial Base price or Commercial Plus price) when mailers use one of the following online shipping methods:

[Revise item a to read as follows:]

a. Commercial Base Price: Click-N-Ship service using online postage; registered end-users of USPS-approved PC Postage products using online postage; or Click-N-Ship for Business using metered postage.

* * * * *

225 Mail Entry and Deposit

* * * * *

225.2 Pickup On Demand Service

* * * A pickup can include any or all of the following items:

[Revise the list to read as follows (to include First-Class Package International Service items):]

a. Global Express Guaranteed items.

b. Priority Mail Express International items.

c. Priority Mail International items.

d. First-Class Package International Service items.

e. Priority Mail Express items.

f. Priority Mail items.

g. Package Services items.

* * * * *

230 Priority Mail International

231 Description and Physical Characterizes

* * * * *

231.2 Physical Characteristics

* * * * *

231.22 Dimensions—Priority Mail International Parcels

* * * * *

The minimum and maximum dimensions for Priority Mail International parcels are as follows:

[Revise item a to read as follows:]

a. For Priority Mail International parcels, the surface area of the address side of the item to be mailed must be large enough to completely contain the postage, customs label and envelope (PS Form 2976-E), and any other applicable endorsements or markings. The PS Form 2976-E is approximately 7¼ inches high and 10¼ inches long.

* * * * *

232 Eligibility

232.1 Priority Mail International Flat Rate Envelopes and Small Flat Rate Priced Boxes

* * * * *

232.12 Electronic USPS Delivery Confirmation International

* * * * *

232.122 Availability

[Revise the last sentence and add Exhibit 231.122 to read as follows:]

* * * The service is available only to the countries listed in Exhibit 231.122:

Exhibit 231.122 Country Availability

Country Name

Australia

Belgium

Brazil

Canada

Croatia

Denmark

Estonia

Finland

France

Germany

Gibraltar

Great Britain and Northern Ireland

Hungary

Israel

Italy

Latvia

Lithuania

Luxembourg

Malaysia

Malta

Netherlands

New Zealand

Portugal

Singapore

Spain

Switzerland

* * * * *

233 Prices and Postage Payment Methods

233.1 Prices

* * * * *

233.12 Commercial Base Prices

[Revise 233.12 to read as follows:]

A mailer who pays postage with a permit imprint under 233.222, or with the online methods described in 233.231, qualifies for the Priority Mail International Commercial Base prices, which are less than Priority Mail International retail prices. See Notice 123, Price List, for the applicable price.

* * * * *

233.2 Postage Payment Methods

* * * * *

[Revise the titles of 233.23 and 233.231 to read as follows:]

233.23 Online Methods

233.231 Online Prices—Commercial Base or Commercial Plus Prices

For selected destination countries, Priority Mail International items qualify for discounted prices (equal to the Commercial Base price or Commercial Plus price) when mailers use one of the following online shipping methods:

[Revise item a to read as follows:]

a. Commercial Base Price: Click-N-Ship service using online postage; registered end-users of USPS-approved PC Postage products using online postage; or Click-N-Ship for Business using metered postage.

* * * * *

235 Mail Entry and Deposit

* * * * *

235.2 Pickup On Demand Service

* * * A pickup can include any or all of the following items:

[Revise the list to read as follows (to include First-Class Package International Service items):]

a. Global Express Guaranteed items.

b. Priority Mail Express International items.

c. Priority Mail International items.

d. First-Class Package International Service items.

e. Priority Mail Express items.

f. Priority Mail items.

g. Package Services items.

* * * * *

250 First-Class Package International Service

* * * * *

252 Eligibility

* * * * *

252.2 Electronic USPS Delivery Confirmation International

* * * * *

252.22 Availability

[Revise the last sentence and add Exhibit 252.22 to read as follows:]

* * * The service is available only to the countries listed in Exhibit 252.22:

Country Name

Australia

Belgium

Brazil

Canada

Croatia

Denmark

Estonia

Finland

France

Germany

Gibraltar

Great Britain and Northern Ireland

Hungary

Israel

Italy

Latvia

Lithuania

Luxembourg

Malaysia

Malta

Netherlands

New Zealand

Portugal

Singapore

Spain

Switzerland

* * * * *

253 Prices and Postage Payment Methods

* * * * *

253.2 Postage Payment Methods

* * * * *

[Revise the titles of 253.23 and 253.231 to read as follows:]

253.23 Online Methods

253.231 Online Prices—Commercial Base or Commercial Plus Prices

For selected destination countries, First-Class Package International Service items qualify for discounted prices (equal to the Commercial Base price or Commercial Plus price) when mailers use one of the following online shipping methods:

[Revise item a to read as follows:]

a. Commercial Base Price: Click-N-Ship service using online postage; registered end-users of USPS-approved PC Postage products using online postage; or Click-N-Ship for Business using metered postage.

* * * * *

255 Mail Entry and Deposit

255.1 Place of Mailing

255.11 Items Eligible for Deposit or Pickup

First-Class Package International Service items bearing a computer-generated customs form with customs data that has been electronically transmitted (e.g., using Click-N-Ship service, an authorized PC Postage vendor, or the USPS Web Tools system) may be deposited through any of the following methods, provided postage is paid by a means other than the use of postage stamps:

[Revise the list to read as follows (to include Pickup on Demand service and Package Pickup service):]

a. In a private mailbox bearing a return address that matches the address at the point of pick up, when the customer or business is known to reside or do business at that location.

b. Through Pickup on Demand service.

c. Through Package Pickup service.

d. At a Postal Service retail counter.

e. Into a Postal Service lobby drop.

f. In a collection box.

g. At a Contract Postal Unit (CPU).

h. At a USPS Approved Shipper location.

* * * * *

[Insert new 255.3 and 255.4 to read as follows:]

255.3 Pickup On Demand Service

Subject to the standards in 255.1, Pickup On Demand service is available for First-Class Package International Service items. There is a single charge for Pickup On Demand service (see Notice 123, Price List), regardless of the number of items scheduled for pickup. A pickup can include any or all of the following items:

a. Global Express Guaranteed items.

b. Priority Mail Express International items.

c. Priority Mail International items.

d. First-Class Package International Service items.

e. Priority Mail Express items.

f. Priority Mail items.

g. Package Services items.

255.4 Package Pickup Service

No pickup fee will be charged when a First-Class Package International Service item or items are picked up during a letter carrier's regular delivery stop or during a scheduled stop made to collect other mail not subject to a pickup fee. Pickup service is provided in accordance with the information in DMM 507.7; for more information, also visit the online site at usps.com/pickup.

260 Direct Sacks of Printed Matter to One Addressee (M-bags)

261 Description

* * * * *

261.2 Eligibility

* * * * *

261.22 Other Articles

Certain other articles may be enclosed in M-bags, provided that all of the following conditions of mailing are met:

* * * * *

[Revise item d to read as follows:]

d. For Airmail M-bags, the combined weight of each printed matter mailpiece and the related articles may not exceed 4 pounds. For IPA and ISAL M-bags, the combined weight of each printed matter mailpiece and the related articles may not exceed 4.4 pounds.

* * * * *

290 Commercial Services

* * * * *

292 International Priority Airmail (IPA) Service

292.1 Description

292.11 General

[Revise 292.11 to read as follows:]

International Priority Airmail (IPA) service, including IPA M-bags, is a commercial service designed for volume mailings of all First-Class Mail International postcards, letters, and large envelopes (flats), and for volume mailings of First-Class Package International Service packages (small packets). The sender must prepare mailpieces in accordance with the requirements of this subchapter and with the shape-based requirements of the applicable service—either First-Class Mail International items (see 240) and/or First-Class Package International Service items (see 250). IPA shipments are typically flown to the foreign destinations (exceptions apply to Canada and Mexico) and are then entered into that country's air or surface priority mail system for delivery. Separate prices are provided for International Service Center (ISC) drop shipments, presorted mail, and worldwide nonpresort mail. Volume incentives are available through customized agreements.

* * * * *

292.2 Eligibility

292.21 Qualifying Mailpieces

[Revise 292.21 to read as follows:]

To qualify for IPA service, a mailpiece must meet the First-Class Mail International characteristics as defined in 141.5 (except for weight—see 292.24) or the First-Class Package International Service characteristics as defined in 141.6 (except for weight—see 292.24). Mailpieces do not have to be of the same size and weight to qualify. Any item sent with IPA service must conform to the size limits for First-Class Mail International postcards, letters, or large envelopes (flats) as described in 240, or for First-Class Package International Service packages (small packets) as described in 250.

292.22 Availability

[Revise 292.22 to read as follows:]

IPA service is available only to the foreign countries that are listed in Exhibit 292.45, which shows the price group and the foreign office of exchange code assigned to each country.

292.23 Minimum Quantity Requirements

* * * * *

292.232 Presort Eligibility—Full-Service

[Revise the first sentence to read as follows:]

Only a direct country container with a minimum of 2 pounds qualifies for the presort price. * * *

292.233 Presort Eligibility—ISC Drop Shipment

[Revise the first sentence to read as follows:]

Only a direct country container with a minimum of 2 pounds or a mixed country container with a minimum of 5 pounds qualifies for the presort price. * * *

[Insert new 292.24 to read as follows (renumbering current 292.24 through 292.26 to be 292.25 through 292.27):]

292.24 Maximum Weight Limits

The maximum weight for an IPA container is 66 pounds. The maximum weight for an individual IPA item is as follows:

a. Letter-size item: 3.5 ounces.

b. Flat-size item: 17.6 ounces.

c. Package-size item: 4.4 pounds

* * * * *

292.3 Prices and Postage Payment Methods

292.31 Prices

[Revise the first sentence to read as follows:]

IPA service has two price options: a presort price with 19 price groups, and a worldwide nonpresort price. * * *

* * * * *

292.4 Mail Preparation

* * * * *

[Revise 292.45 through 292.47 in their entirety to read as follows:]

292.45 IPA Price Groups and Foreign Office of Exchange Codes

See Exhibits 292.45a and 292.45b for the IPA Country Price Groups and Foreign Office of Exchange Codes.

Exhibit 292.45a

IPA Country Price Groups and Foreign Office of Exchange Codes for All Countries Other Than Canada
Country labeling name | Foreign office of exchange code | Price group
Afghanistan | KBL | 19
Albania | TIA | 16
Algeria | ALG | 19
Andorra, via Spain | MAD | 15
Angola | LAD | 19
Anguilla | AXA | 17
Antigua and Barbuda | ANU | 17
Argentina | BUE | 10
Armenia | EVN | 19
Aruba | AUA | 17
Ascension, via Great Britain | LAL | 16
Australia ¹ | SYD | 9
Austria | VIE | 12
Azerbaijan | BAK | 19
Bahamas | NAS | 17
Bahrain | BAH | 19
Bangladesh | DAC | 19
Barbados | BGI | 17
Belarus | MSQ | 16
Belgium | BRU | 12
Belize | BZE | 17
Benin | COO | 19
Bermuda | SGE | 17
Bhutan, via Great Britain | LAL | 19
Bolivia | LPB | 17
Bosnia-Herzegovina | SJJ | 16
Botswana | GBE | 19
Brazil | CWB | 10
British Virgin Islands | RAD | 17
Brunei Darussalam | BWN | 18
Bulgaria | SOF | 16
Burkina Faso | OUA | 19
Burma (Myanmar) | RGN | 19
Burundi | BJM | 19
Cambodia | PNH | 18
Cameroon | DLA | 19
Canada | See Canadian Labeling Information in Exhibit 292.45b | 1
Cape Verde | RAI | 19
Cayman Islands | GCM | 17
Central African Republic | BGF | 19
Chad | NDJ | 19
Chile | SCL | 17
China | BJS | 14
Colombia | BOG | 17
Comoros Islands, via France | CDG | 19
Congo, Dem. Rep. of the | FIH | 19
Congo, Rep. of the | BZV | 19
Cook Islands | RAR | 9
Costa Rica | SJO | 17
Cote d'Ivoire | ABJ | 19
Croatia | ZAG | 16
Curacao (includes Bonaire, Saba, and Sint Eustatius) | CUR | 17
Cyprus | LCA | 19
Czech Republic | PRG | 16
Denmark | CPH | 12
Djibouti | JIB | 19
Dominica | DOM | 17
Dominican Republic | SDQ | 17
Ecuador | UIO | 17
Egypt | CAI | 19
El Salvador | SAL | 17
Equatorial Guinea | SSG | 19
Eritrea | ASM | 19
Estonia | TLL | 16
Ethiopia | ADD | 19
Falkland Islands, via Great Britain | LAL | 17
Faroe Islands, via Denmark | CPH | 16
Fiji | NAN | 18
Finland | HEL | 12
France ² | CDG | 5
French Guiana | CAY | 17
French Polynesia | FAA | 18
Gabon | LBV | 19
Gambia | BJL | 19
Georgia, Republic of | TBS | 19
Germany | FRA | 4
Ghana | ACC | 19
Gibraltar | GIB | 15
Great Britain (includes England, Scotland, Wales, Northern Ireland, Guernsey, Jersey, Alderney, Sark, and The Isle of Man) | LAL | 3
Greece | ATH | 13
Greenland, via Denmark | CPH | 15
Grenada | GND | 17
Guadeloupe | PTP | 17
Guatemala | GUA | 17
Guinea | CKY | 19
Guinea-Bissau | OXB | 19
Guyana | GEO | 17
Haiti | PAP | 17
Honduras | TGU | 17
Hong Kong | HKG | 11
Hungary | BUD | 16
Iceland | REK | 15
India | DEL | 14
Indonesia | JKT | 18
Iraq | BGW | 19
Ireland | DUB | 13
Israel | TLV | 13
Italy | MIL | 7
Jamaica | KIN | 17
Japan | NRT | 6
Jordan | AMM | 19
Kazakhstan | ALA | 19
Kenya | NBO | 19
Kiribati | TRW | 18
Korea, Republic of (South) | SEL | 11
Kosovo, Republic of | PRN | 16
Kuwait | KWI | 19
Kyrgyzstan | FRU | 16
Laos | VTE | 18
Latvia | RIX | 16
Lebanon | BEY | 19
Lesotho | MSU | 19
Liberia | MLW | 19
Libya | TIP | 19
Liechtenstein, via Switzerland | ZRH | 15
Lithuania | VNO | 16
Luxembourg | LUX | 15
Macao | MFM | 16
Macedonia | FRA | 16
Madagascar | TNR | 19
Malawi | LBE | 19
Malaysia | KUL | 18
Maldives | MLE | 19
Mali | BKO | 19
Malta | MAR | 19
Martinique | FDF | 17
Mauritania | NKC | 19
Mauritius | PLU | 19
Mexico | MEX | 2
Moldova | KIV | 19
Monaco | MON | 12
Mongolia | ULN | 18
Montenegro | TGD | 17
Montserrat | MNI | 17
Morocco | CAS | 19
Mozambique | MPM | 19
Namibia | WDH | 19
Nauru | INU | 18
Nepal | KTM | 18
Netherlands | AMS | 12
New Caledonia | NOU | 18
New Zealand ³ | AKL | 9
Nicaragua | MGA | 17
Niger | NIM | 19
Nigeria | LOS | 19
Norway | OSL | 12
Oman | MCT | 19
Pakistan | ISB | 19
Panama | PTY | 17
Papua New Guinea | BOR | 18
Paraguay | ASU | 17
Peru | LIM | 17
Philippines | MNL | 14
Pitcairn Island, via New Zealand | AKL | 18
Poland | WAW | 12
Portugal (includes Azores and Madeira Islands) | LIS | 13
Qatar | DOH | 19
Reunion | RUN | 19
Romania | BUH | 16
Russia | MOW | 16
Rwanda | KGL | 19
Saint Christopher and Nevis | SKB | 17
Saint Helena, via Great Britain | LAL | 19
Saint Lucia | SLU | 17
Saint Pierre and Miquelon, via Canada | See Canadian Labeling Information in Exhibit 292.45b | 17
Saint Vincent and The Grenadines | KTN | 17
San Marino, via Italy | MIL | 12
Sao Tome and Principe, via Portugal | LIS | 16
Saudi Arabia | DMM | 19
Senegal | DKR | 19
Serbia, Republic of | BEG | 16
Seychelles | SEZ | 19
Sierra Leone | FNA | 19
Singapore | SIN | 11
Sint Maarten | SXM | 17
Slovak Republic (Slovakia) | BTS | 16
Slovenia | LJU | 13
Solomon Islands | HIR | 18
South Africa | JNB | 14
Spain (includes Canary Islands) | MAD | 8
Sri Lanka | CMB | 19
Suriname | PBM | 17
Swaziland | MTS | 19
Sweden | STO | 12
Switzerland | ZRH | 12
Taiwan | TPE | 14
Tajikistan | DYU | 19
Tanzania | DAR | 19
Thailand | BKK | 14
Timor-Leste, Democratic Republic of | DIL | 18
Togo | LFW | 19
Tonga | TBU | 18
Trinidad and Tobago | POS | 17
Tristan da Cunha, via South Africa | JNB | 19
Tunisia | TUN | 19
Turkey | IST | 16
Turkmenistan | ASB | 16
Turks and Caicos Islands | GDT | 17
Tuvalu, via Fiji | NAN | 18
Uganda | KLA | 19
Ukraine | IEV | 19
United Arab Emirates | DXB | 19
Uruguay | MVD | 17
Uzbekistan | TAS | 19
Vanuatu | VLI | 18
Vatican City | VAT | 15
Venezuela | CCS | 17
Vietnam | SGN | 18
Wallis and Futuna Islands, via New Caledonia | NOU | 18
Western Samoa | APW | 18
Yemen | SAH | 19
Zambia | LUN | 19
Zimbabwe | HRE | 19
¹ At the mailer's option, a finer sortation for IPA items addressed to Australia may be used. If this option is chosen, items addressed with postal codes beginning with 0, 1, 2, 4, and 9 and uncoded mail should be sorted and prepared in direct country containers tagged to Sydney. Both the three-letter exchange office code (“SYD”) and the country name (“Australia”) should be entered in the “To” block of PS Tag 115, International Priority Airmail. Items addressed with postal codes beginning with 3, 5, 6, 7, and 8 should be sorted and prepared in direct country containers tagged to Melbourne. Both the three-letter exchange office code (“MEL”) and the country name (“Australia”) should be entered in the “To” block of PS Tag 115.
² For all destinations to France other than Monaco. For Monaco, see the entry for Monaco in this exhibit.
³ For all destinations to New Zealand other than Cook Islands. For Cook Islands, see the entry for Cook Islands in this exhibit.

Exhibit 292.45b

Canadian Mail Container Labeling Information
[Full-service only]
ZIP Code of entry post office * | Canadian destination | U.S. exchange office code | U.S. exchange office (or ISC) | Foreign office of exchange code
005, 010-089, 100-212, 214-268, 270-297, 400-418, 420-427, 470-471, 476-477 | MONTREAL QC FWD | 003 | JFK | YMQ.
006-009, 298-339, 341-342, 344, 346-347, 349-352, 354-399, 723 | MONTREAL QC FWD | 33112 | MIA | YMQ.
430-469, 472-475, 478-516, 520-528, 530-532, 534-535, 537-551, 553-567, 570-577, 580-588, 600-620, 622-631, 633-641, 644-658, 660-662, 664-681, 683-693, 700-701, 703-708, 710-714, 716-722, 724-731, 733-741, 743-816, 822-831, 840-847, 870-875, 877-885, 893, 897-898 | TORONTO ON FWD | 60290 | ORD | For IPA letter-size and flat-size: TOR. For IPA packages-size: YTO.
590-599, 820-821, 832-838, 894-895, 937-961, 970-986, 988-999 | VANCOUVER BC FWD | 94013 | SFO | YVR.
850-853, 855-857, 859-860, 863-865, 889-891, 900-908, 910-928, 930-936 | VANCOUVER BC FWD | 90899 | LAX | YVR.
967-969 | VANCOUVER BC FWD | 96820 | HNL | YVR.
* The “ZIP Code of Entry Post Office” column is relevant only for mailings claimed at the full-service price (i.e., not drop shipped at an ISC) to determine their Canadian destination and U.S. exchange office code container information.

292.46 Presort Mailings: Direct Country—Price Groups 1 Through 14

292.461—General

Price groups 1 through 14 may be prepared in direct country containers (full-service price and ISC drop shipment price). Each direct country container must contain at least 2 pounds of mail. The mailer must separately containerize items bearing customs forms from items not bearing customs forms and must prepare letter-size, flat-size, and package-size items in separate containers as defined in 292.462a through 292.462c. Smaller quantities qualify only for mixed country price (price groups 9 through 14 only) under 292.47, or for the worldwide nonpresort price under 292.49. The maximum container weight is 66 pounds.

292.462 Preparation

The mailer must prepare direct country containers of presorted IPA mail (full-service price and ISC drop shipment price) as follows:

a. Letter-Size and Flat-Size Mail. For each direct country tray of letter-size or flat-size mail, the mailer must do the following:

1. Mail Preparation. Prepare letter-size items in letter trays, either 1-foot or 2-foot, depending on volume. Prepare flat-size items in flat trays/tubs. Do not prepare the content of trays in bundles. Face all letter-size items and flat-size items in the same direction. Ensure that all trays are full enough to keep the mail from mixing during transportation. Cover (i.e., sleeve or lid) all letter-size and flat-size trays and secure them with strapping.

2. Container Tags. Complete the front side of PS Tag 115, International Priority Airmail, which identifies the mail to ensure it receives priority handling. Check the appropriate box to indicate if the tray contains items with or without customs forms, identify the destination country, and enter the date of mailing, the 10-digit permit number, the foreign office of exchange code as listed in Exhibit 292.45a and 292.45b, and the price group as listed in Exhibit 292.45a and 292.45b. To the front side of the tag, apply a barcode that indicates the mailer's permit number, the product code, the service type code, the container type code, the mail contents shape type code, the foreign office of exchange code, and the serial number of the container. (To request technical specifications for the barcode, send an email to globalbusiness-sales@usps.gov). Finally, tape PS Tag 115 to the tray cover.

b. Packages. For each direct country sack of package-size items, the mailer must do the following:

1. Mail Preparation. Prepare package-size items by placing them loose in sacks.

2. Tags. Container Tags. Complete the front side of PS Tag 115, International Priority Airmail, which identifies the mail to ensure it receives priority handling. Check the appropriate box to indicate if the container contains items with or without customs forms, identify the destination country, and enter the date of mailing, the 10-digit permit number, the foreign office of exchange code as listed in Exhibit 292.45a and 292.45b, and the price group as listed in Exhibit 292.45a and 292.45b. To the front side of the tag, apply a barcode that indicates the mailer's permit number, the product code, the service type code, the container type code, the shape type code, the foreign office of exchange code, and the serial number of the container. (To request technical specifications for the barcode, send an email to globalbusiness-sales@usps.gov). Finally, attach PS Tag 115 to the neck of the sack.

3. Direct Country Container Label. A mailer who claims the ISC drop shipment price and enters the mail at an authorized drop shipment location under 292.532 is not required to prepare container labels. A mailer who claims the full-service price must complete 2-inch container labels (and insert them into the applicable container label holder) as follows (see Exhibit 292.462 for the list of U.S. Exchange Offices):

Line 1: Appropriate U.S. Exchange Office and Routing Code

Line 2: Contents—DRX COUNTRY

Line 3: Mailer, Mailer Location

Example: ISC NEW YORK NY 003, IPA—DRX COUNTRY, ABC STORE ALBANY NY.

Exhibit 292.462

Labeling of IPA Mail to Postal Service Exchange Offices
[Full-service only]
IPA Acceptance office 3-Digit ZIP Code Prefix | U.S. exchange office and routing code for line 1
005, 010-089, 100-212, 214-268, 270-297, 400-418, 420-427, 470-477 | ISC NEW YORK NY 003.
006-009, 298-339, 341-342, 344, 346-347, 349-352, 354-399 | ISC MIAMI FL 33112.
424, 430-469, 478-516, 520-528, 530-532, 534-535, 537-551, 553-567, 570-577, 580-588, 600-620, 622-631, 633-641, 644-658, 660-662, 664-681, 683-693, 700-701, 703-708, 710-714, 716-731, 733-741, 743-799, 885 | ISC CHICAGO IL 60290.
590-599, 800-816, 820-838, 840-847, 893-895, 897-898, 937-961, 970-986, 988-999 | ISC SAN FRANCISCO CA 94013.
850-853, 855-857, 859-860, 863-865, 870-875, 877-884, 889-891, 900-908, 910-928, 930-936 | ISC LOS ANGELES CA 900.
967-969 | P&DC HONOLULU HI 967.

292.47 Presort Mailings: Mixed Country—Price Groups 9 Through 14

292.471 General

The mailer may prepare price groups 9 through 14 in mixed country containers (ISC drop shipment price) only after all possible direct country containers have been prepared. Each mixed country price group must contain at least 5 pounds of mail that are destined within the same price group. The mailer must separately containerize items bearing customs forms from items not bearing customs forms and must prepare letter-size, flat-size, and package-size items in separate containers as defined in 292.472a and 292.472b. Smaller quantities qualify only for the worldwide nonpresort price under 292.49. The maximum container weight is 66 pounds.

292.472 Preparation

The mailer must prepare mixed country containers of presorted IPA mail (ISC drop shipment price) as follows:

a. Letter-Size and Flat-Size Mail. For each mixed country tray of letter-size or flat-size mail, the mailer must do the following:

1. Mail Preparation. Prepare letter-size items in letter trays, either 1-foot or 2-foot, depending on volume. Prepare flat-size items in flat trays/tubs. Bundle letter-size and flat-size pieces as defined in 292.44, and bundle each country separately. Face all letter-size items and flat-size items in the same direction and apply a label (facing slip) to the top item as defined in 292.473. Cover (i.e., sleeve or lid) all letter-size trays and flat-size trays/tubs and secure them with strapping.

2. Container Tags. Complete the front side of PS Tag 115, International Priority Airmail, which identifies the mail to ensure it receives priority handling. Identify the date of mailing, the 10-digit permit number, and the price group as listed in Exhibit 292.45a or 292.45b followed by the word “Mixed” (e.g., “14-Mixed”). Finally, tape PS Tag 115 to the tray cover.

b. Packages. For each mixed country container of package-size items, the mailer must do the following:

1. Mail Preparation. Prepare package-size items by placing them loose in sacks.

2. Container Tags. Complete the front side of PS Tag 115, International Priority Airmail, which identifies the mail to ensure it receives priority handling. Identify the date of mailing, the 10-digit permit number, and the price group as listed in Exhibit 292.45a or 292.45b followed by the word “Mixed” (e.g., “14-Mixed”). Finally, attach PS Tag 115 to the neck of the sack.

292.473 Direct Country Bundle Label for Mixed Country Containers

Only letter-size and flat-size direct country bundles prepared for mixed country containers require a label (facing slip). The mailer must complete the label and place it on the address side of the top item of each bundle in such a manner that it will not become separated from the bundle. The pressure-sensitive labels and optional endorsement lines used domestically for presort mail are prohibited for IPA service. Bundle labels must contain the following information:

Line 1: Foreign Office of Exchange Code. (See Exhibit 292.45a and 292.45b.)

Line 2: Country Labeling Name. (See Exhibit 292.45a and 292.45b.)

Line 3: Mailer, Mailer Location (City and State).

Example: VIE, AUSTRIA, ABC COMPANY WASHINGTON DC.

[Insert new 292.48 and 292.49 to read as follows:]

292.48 Presort Mailings—Price Groups 15 Through 19

292.481 General

Price groups 15 through 19 must be prepared in direct country containers (full-service price and ISC drop shipment price) or mixed country containers (ISC drop shipment price). Each direct country container must contain at least 2 pounds of mail. Each mixed country container must contain at least 5 pounds of mail. Smaller quantities qualify only for the worldwide nonpresort price under 292.49. The mailer must separately containerize items bearing customs forms from items not bearing customs forms. The maximum container weight is 66 pounds.

292.482 Preparation

The mailer has two options to prepare direct country or mixed country containers of presorted IPA mail, as follows:

1. Prepare mail as described in 292.46 and 292.47, including using letter-size trays for letter-size items, flat-size trays/tubs for flat-size items, and sacks for package-size items.

2. Prepare mail in sacks for all processing categories as defined in 292.483 and 292.484.

292.483 Direct Country—Optional Sack Preparation

The mailer may optionally prepare direct country sacks or mixed country sacks of presorted IPA mail when sacks are used for all processing categories as follows:

a. Full-Service and ISC Drop Shipment—Direct country sacks.

1. Preparation. Mail (letter-size, flat-size, and package-size) that is addressed to an individual country and that contains 2 pounds or more must be sorted into direct country sacks. Mail that cannot be made up into direct country sacks must be prepared and entered as mixed country sacks (ISC Drop Shipment only) or the worldwide nonpresort price. The mailer must bundle letter-size and flat-size items as defined in 292.44. The mailer must bundle letter-size items and flat-size items separately, although nonidentical items may be commingled within each of these categories. Face all letter-size items and flat-size items in the same direction and apply a label (facing slip) to the top item as defined in 292.472. Place package-size items loose in the sack provided that items bearing customs forms are separated from items not bearing customs forms.

2. Container Tags. The mailer must complete the front side of PS Tag 115, International Priority Airmail, which identifies the mail to ensure it receives priority handling. The mailer must check the appropriate box to indicate if the sack contains items with or without customs forms, identify the destination country, and enter the date of mailing, the 10-digit permit number, the foreign office of exchange code as listed in Exhibits 292.45a and 292.45b, and the price group as listed in Exhibits 292.45a and 292.45b. The mailer must apply a barcode to the front side of the tag that indicates the mailer's permit number, the product code, the service type code, the container type, the shape type, the foreign office of exchange code, and the serial number of the sack. (To request technical specifications for the barcode, send an email to globalbusiness-sales@usps.gov). Finally, the mailer must attach PS Tag 115 to the neck of the sack.

3. Direct Country Container Label. A mailer who claims the ISC drop shipment price and enters the mail at an authorized drop shipment location under 292.532 is not required to prepare container labels. A mailer who claims the full-service price must complete 2-inch container labels (and insert them into the applicable container label holder) as follows (see Exhibit 292.483 for the list of U.S. Exchange Offices):

Line 1: Appropriate U.S. Exchange Office and Routing Code

Line 2: Contents—DRX COUNTRY

Line 3: Mailer, Mailer Location

Example: ISC NEW YORK NY 003, IPA—DRX COUNTRY, ABC STORE ALBANY NY.

Exhibit 292.483

Labeling of IPA Mail to Postal Service Exchange Offices
[Full-service only]
IPA acceptance office 3-digit ZIP Code prefix | U.S. exchange office and routing code for line 1
005, 010-089, 100-212, 214-268, 270-297, 400-418, 420-427, 470-477 | ISC NEW YORK NY 003.
006-009, 298-339, 341-342, 344, 346-347, 349-352, 354-399 | ISC MIAMI FL 33112.
424, 430-469, 478-516, 520-528, 530-532, 534-535, 537-551, 553-567, 570-577, 580-588, 600-620, 622-631, 633-641, 644-658, 660-662, 664-681, 683-693, 700-701, 703-708, 710-714, 716-731, 733-741, 743-799, 885 | ISC CHICAGO IL 60290.
590-599, 800-816, 820-838, 840-847, 893-895, 897-898, 937-961, 970-986, 988-999 | ISC SAN FRANCISCO CA 94013.
850-853, 855-857, 859-860, 863-865, 870-875, 877-884, 889-891, 900-908, 910-928, 930-936 | ISC LOS ANGELES CA 900.
967-969 | P&DC HONOLULU HI 967.

b. ISC Drop Shipment—Mixed country sacks.

1. Preparation. Mixed country sacks can be prepared only after all possible direct country sacks have been prepared. The mailer must prepare mixed country sacks for items that contain 5 pounds or more and that are destined within the same price group. Mail that ultimately cannot be made up into direct country sacks or mixed country sacks must be prepared and entered at the worldwide nonpresort price. The mailer must bundle letter-size and flat-size items as defined in 292.44. The mailer must bundle letter-size and flat-size items separately, although nonidentical items may be commingled within each of these categories. Face all letter-size items and flat-size items in the same direction and apply a label (facing slip) to the top item as defined in 292.484. Place package-size items that cannot be bundled because of their physical characteristics loose in the sack provided that items bearing customs forms are separated from items not bearing customs forms.

2. Container Tags. The mailer must complete the front side of PS Tag 115, International Priority Airmail, which identifies the mail to ensure it receives priority handling. On the front of the tag, the mailer must identify the date of mailing, the 10-digit permit number, and the price group as listed in Exhibit 292.45a or 292.45b followed by the word “Mixed” (e.g., “15-Mixed”). Finally, the mailer must attach PS Tag 115 to the neck of the sack.

292.484 Presorted Mail—Direct Country Bundle Label

Only letter-size and flat-size direct country bundles prepared for mixed country sacks require a label (facing slip). The mailer must complete the label and place it on the address side of the top item of each bundle in such a manner that it will not become separated from the bundle. The pressure-sensitive labels and optional endorsement lines used domestically for presort mail are prohibited for IPA service. Bundle labels must contain the following information:

Line 1: Foreign Office of Exchange Code. (See Exhibits 292.45a and 292.45b.)

Line 2: Country Labeling Name. (See Exhibits 292.45a and 292.45b.)

Line 3: Mailer, Mailer Location (City and State).

Example: VIE, AUSTRIA, ABC COMPANY WASHINGTON DC.

292.49 Worldwide Nonpresort Preparation

The following standards apply when the mailer prepares worldwide nonpresort IPA mail (full-service price and ISC drop shipment price):

a. General. A mailer claiming any mail at the direct country or mixed country price cannot enclose the mail in worldwide nonpresort sacks. The mailer must bundle letter-size and flat-size mail. All types of mail, including letter-size bundles, flat-size bundles, and loose items, can be commingled in the same sack. Labels (facing slips) are not required on any bundles. Containers other than sacks are not authorized unless other equipment is specified by the acceptance office—for example, the mailer may present nonpresorted letter-size mail in trays if authorized by the acceptance office. The maximum weight of any container is 66 pounds.

b. Worldwide Nonpresort Container Label. A mailer who claims the ISC drop shipment price and enters the mail at an authorized drop shipment location under 292.532 is not required to prepare container labels. A mailer who claims the full-service price must complete 2-inch container labels (and insert them into the applicable container label holder) as follows (see Exhibit 292.483 for the list of U.S. Exchange Offices):

Line 1: Appropriate U.S. Exchange Office and Routing Code

Line 2: Contents WKG

Line 3: Mailer, Mailer Location

Example: ISC MIAMI FL 33112, IPA—WKG, ABC COMPANY MIAMI FL.

* * * * *

293 International Surface Air Lift (ISAL) Service

293.1 Description

293.11 General

[Revise 293.11 to read as follows:]

International Surface Air Lift (ISAL) service, including ISAL M-bags, is a commercial service designed for volume mailings of all First-Class Mail International postcards, letters, and large envelopes (flats), and for volume mailings of First-Class Package International Service packages (small packets).

The sender must prepare mailpieces in accordance with the requirements of this subchapter and with the shape-based requirements of the applicable service—either First-Class Mail International items (see 240) and/or First-Class Package International Service items (see 250). ISAL shipments are typically flown to the foreign destinations (exceptions apply to Canada and Mexico) and are then entered into that country's surface nonpriority mail system for delivery. Separate prices are provided for International Service Center (ISC) drop shipments, presorted mail, and nonpresorted mail. Volume incentives are available through customized agreements.

* * * * *

293.2 Eligibility

293.21 Qualifying Mailpieces

[Revise 293.21 to read as follows:]

To qualify for ISAL service, a mailpiece must meet the First-Class Mail International characteristics as defined in 141.5 (except for weight—see 293.24) or the First-Class Package International Service characteristics as defined in 141.6 (except for weight—see 293.24). Mailpieces do not have to be of the same size and weight to qualify. Any item sent with ISAL service must conform to the size limits for First-Class Mail International postcards, letters, or large envelopes (flats) as described in 240, or for First-Class Package International Service packages (small packets) as described in 250.

* * * * *

293.23 Minimum Quantity Requirements

* * * * *

293.232 Presort Eligibility—Full-Service

[Revise the first sentence to read as follows:]

Only a direct country container with a minimum of 2 pounds qualifies for the presort price. * * *

293.233 Presort Eligibility—ISC Drop Shipment

[Revise the first sentence to read as follows:]

Only a direct country container with a minimum of 2 pounds or a mixed country container with a minimum of 5 pounds qualifies for the presort price. * * *

[Insert new 293.24 to read as follows (renumbering current 293.24 through 293.26 to be 293.25 through 293.27):]

293.24 Maximum Weight Limits

The maximum weight for an ISAL container is 66 pounds. The maximum weight for an individual ISAL item is as follows:

a. Letter-size item: 3.5 ounces.

b. Flat-size item: 17.6 ounces.

c. Package-size item: 4.4 pounds.

* * * * *

293.3 Prices and Postage Payment Methods

293.31 Prices

[Revise the first sentence to read as follows:]

ISAL service has two price options: A presort price with 19 price groups, and a worldwide nonpresort price. * * *

* * * * *

293.4 Mail Preparation

* * * * *

[Revise 293.45 through 293.47 in their entirety to read as follows:]

293.45 ISAL Price Groups and Foreign Office of Exchange Codes

See Exhibits 293.45a and 293.45b for the ISAL Country Price Groups and Foreign Office of Exchange Codes.

Exhibit 293.45a

ISAL Country Price Groups, and Foreign Office of Exchange Codes for All Countries Other Than Canada
Country labeling name | Foreign office of exchange code | Price group
Albania | TIA | 16
Algeria | ALG | 19
Angola | LAD | 19
Argentina | BUE | 10
Aruba | AUA | 17
Australia | SYD | 9
Austria | VIE | 12
Bahrain | BAH | 19
Bangladesh | DAC | 19
Belgium | BRU | 12
Belize | BZE | 17
Benin | COO | 19
Bolivia | LPB | 17
Brazil | SAO | 10
Bulgaria | SOF | 16
Burkina Faso | OUA | 19
Cameroon | DLA | 19
Canada | See Canadian Labeling Information in Exhibit 293.45b | 1
Central African Republic | BGF | 19
Chile | SCL | 17
China | BJS | 14
Colombia | BOG | 17
Congo, Democratic Republic of the | FIH | 19
Costa Rica | SJO | 17
Cote d'Ivoire (Ivory Coast) | ABJ | 19
Curacao (includes Bonaire, Saba, and Sint Eustatius) | CUR | 17
Czech Republic | PRG | 16
Denmark | CPH | 12
Dominican Republic | SDQ | 17
Ecuador | GYE | 17
Egypt | CAI | 19
El Salvador | SAL | 17
Ethiopia | ADD | 19
Fiji | NAN | 18
Finland | HEL | 12
France (includes Corsica) | CDG | 5
French Guiana | CAY | 17
Gabon | LBV | 19
Germany | NIA | 4
Ghana | ACC | 19
Great Britain | LAL | 3
Greece | ATH | 13
Guatemala | GUA | 17
Guyana | GEO | 17
Haiti | PAP | 17
Honduras | TGU | 17
Hong Kong | HKG | 11
Hungary | BUD | 16
Iceland | REK | 15
India | BOM | 14
Indonesia | JKT | 18
Ireland | AHE | 13
Israel | TLV | 13
Italy | MIL | 7
Jamaica | KIN | 17
Japan* | KIX | 6
| KWS | 6
Jordan | AMM | 19
Kenya | NBO | 19
Korea, Rep. of (South) | SEL | 11
Kuwait | KWI | 19
Lebanon | BEY | 19
Liechtenstein | ZRH | 15
Luxembourg | LUX | 15
Madagascar | TNR | 19
Malaysia | KUL | 18
Mali | BKO | 19
Mauritania | NKC | 19
Mauritius | MRU | 19
Mexico | MEX | 2
Morocco | CAS | 19
Mozambique | MPM | 19
Netherlands | AMS | 12
New Zealand | AKL | 9
Nicaragua | MGA | 17
Niger | NIM | 19
Nigeria | LOS | 19
Norway | OSL | 12
Oman | MCT | 19
Pakistan | KHI | 19
Panama | PTY | 17
Papua New Guinea | BOR | 18
Paraguay | ASU | 17
Peru | LIM | 17
Philippines | MNL | 14
Poland | WAW | 12
Portugal | LIS | 13
Qatar | DOH | 19
Reunion | RUN | 19
Romania | BUH | 16
Russia | MOW | 16
Saudi Arabia | DMM | 19
Senegal | DKR | 19
Singapore | SIN | 11
Sint Maarten | SXM | 17
Slovak Republic (Slovakia) | BTS | 16
South Africa | JNB | 14
Spain (includes Canary Islands) | MAD | 8
Sri Lanka | CMB | 19
Suriname | PBM | 17
Sweden | STO | 12
Switzerland | ZRH | 12
Taiwan | TPE | 14
Tanzania | DAR | 19
Thailand | BKK | 14
Timor-Leste, Democratic Republic of | DIL | 18
Togo | LFW | 19
Trinidad and Tobago | POS | 17
Tunisia | TUN | 19
Turkey | IST | 16
Uganda | KLA | 19
United Arab Emirates | DXB | 19
Uruguay | MVD | 17
Venezuela | CCS | 17
Yemen | SAH | 19
Zambia | NLA | 19
Zimbabwe | HRE | 19
* To expedite handling, Japan Post has requested that U.S. shippers make the following optional separation of their ISAL mail:
—Mail destined for locations in Japan with post code prefixes 52-93 should be labeled to Osaka International (KIX).
—Mail destined for all other post code prefixes should be labeled to Kawasaki (KWS).
—ISAL mail that is not optionally separated as specified above should be labeled to Kawasaki KWS).

Exhibit 293.45b

Canadian Mail Container Labeling Information
[Full-service only]
ZIP Code of entry post office * | Canadian destination | U.S. exchange office code | U.S. exchange office (or ISC) | Foreign office of exchange code
005, 010-089, 100-212, 214-268, 270-297, 400-418, 420-427, 470-471, 476-477 | MONTREAL QC FWD | 003 | JFK | YMQ.
006-009, 298-339, 341-342, 344, 346-347, 349-352, 354-399, 723 | MONTREAL QC FWD | 33112 | MIA | YMQ.
430-469, 472-475, 478-516, 520-528, 530-532, 534-535, 537-551, 553-567, 570-577, 580-588, 600-620, 622-631, 633-641, 644-658, 660-662, 664-681, 683-693, 700-701, 703-708, 710-714, 716-722, 724-731, 733-741, 743-816, 822-831, 840-847, 870-875, 877-885, 893, 897-898 | TORONTO ON FWD | 60290 | ORD | For ISAL letter-size and flat-size: TOR. For ISAL packages-size: YTO.
590-599, 820-821, 832-838, 894-895, 937-961, 970-986, 988-999 | VANCOUVER BC FWD | 94013 | SFO | YVR.
850-853, 855-857, 859-860, 863-865, 889-891, 900-908, 910-928, 930-936 | VANCOUVER BC FWD | 90899 | LAX | YVR.
967-969 | VANCOUVER BC FWD | 96820 | HNL | YVR.
* The “ZIP Code of Entry Post Office” column is relevant only for mailings claimed at the full-service price (i.e., not drop shipped at an ISC) to determine their Canadian destination and U.S. exchange office code container information.

293.46 Presort Mailings: Direct Country—Price Groups 1 Through 14

293.461 General

Price groups 1 through 14 may be prepared in direct country containers (full-service price and ISC drop shipment price). Each direct country container must contain at least 2 pounds of mail. The mailer must separately containerize items bearing customs forms from items not bearing customs forms and must prepare letter-size, flat-size, and package-size items in separate containers as defined in 293.462a through 293.462c. Smaller quantities qualify only for mixed country price (price groups 9 through 14 only) under 293.47, or for the worldwide nonpresort price under 293.49. The maximum container weight is 66 pounds.

293.462 Preparation

The mailer must prepare direct country containers of presorted ISAL mail (full-service price and ISC drop shipment price) as follows:

a. Letter-Size and Flat-Size Mail. For each direct country tray of letter-size or flat-size mail, the mailer must do the following:

1. Mail Preparation. Prepare letter-size items in letter trays, either 1-foot or 2-foot, depending on volume. Prepare flat-size items in flat trays/tubs. Do not prepare the content of trays in bundles. Face all letter-size items and flat-size items in the same direction. Ensure that all trays are full enough to keep the mail from mixing during transportation. Cover (i.e., sleeve or lid) all letter-size and flat-size trays and secure them with strapping.

2. Container Tags. Complete the front side of PS Tag 155, International Surface Air Lift, which identifies the mail to ensure it receives priority handling. Check the appropriate box to indicate if the tray contains items with or without customs forms, identify the destination country, and enter the date of mailing, the 10-digit permit number, the foreign office of exchange code as listed in Exhibits 293.45a and 293.45b, and the price group as listed in Exhibits 293.45a and 293.45b. To the front side of the tag, apply a barcode that indicates the mailer's permit number, the product code, the service type code, the container type code, the mail contents shape type code, the foreign office of exchange code, and the serial number of the container. (To request technical specifications for the barcode, send an email to globalbusiness-sales@usps.gov). Finally, tape the PS Tag 155 to the tray cover.

b. Packages. For each direct country sack of package-size items, the mailer must do the following:

1. Mail Preparation. Prepare package-size items by placing them loose in sacks.

2. Container Tags. Complete the front side of PS Tag 155, International Surface Air Lift, which identifies the mail to ensure it receives priority handling. Check the appropriate box to indicate if the container contains items with or without customs forms, identify the destination country, and enter the date of mailing, the 10-digit permit number, the foreign office of exchange code as listed in Exhibits 293.45a and 293.45b, and the price group as listed in Exhibits 293.45a and 293.45b. To the front side of the tag, apply a barcode that indicates the mailer's permit number, the product code, the service type code, the container type code, the shape type code, the foreign office of exchange code, and the serial number of the container. (To request technical specifications for the barcode, send an email to globalbusiness-sales@usps.gov). Finally, attach PS Tag 155 to the neck of the sack.

c. Direct Country Container Label. A mailer who claims the ISC drop shipment price and enters the mail at an authorized drop shipment location under 293.532 is not required to prepare container labels. A mailer who claims the full-service price must complete 2-inch container labels (and insert them into the applicable container label holder) as follows (see Exhibit 293.462 for the list of U.S. Exchange Offices):

Line 1: Appropriate U.S. Exchange Office and Routing Code

Line 2: Contents—DRX COUNTRY

Line 3: Mailer, Mailer Location

Example: ISC NEW YORK NY 003, ISAL—DRX COUNTRY, ABC STORE ALBANY NY.

Exhibit 293.462

Labeling of ISAL Mail to Postal Service Exchange Offices
[Full-service only]
ISAL acceptance office 3-digit zip code prefix | U.S. exchange office and routing code for line 1
005, 010-089, 100-212, 214-268, 270-297, 400-418, 420-427, 470-477 | ISC NEW YORK NY 003.
006-009, 298-339, 341-342, 344, 346-347, 349-352, 354-399 | ISC MIAMI FL 33112.
424, 430-469, 478-516, 520-528, 530-532, 534-535, 537-551, 553-567, 570-577, 580-588, 600-620, 622-631, 633-641, 644-658, 660-662, 664-681, 683-693, 700-701, 703-708, 710-714, 716-731, 733-741, 743-799, 885 | ISC CHICAGO IL 60290.
590-599, 800-816, 820-838, 840-847, 893-895, 897-898, 937-961, 970-986, 988-999 | ISC SAN FRANCISCO CA 94013.
850-853, 855-857, 859-860, 863-865, 870-875, 877-884, 889-891, 900-908, 910-928, 930-936 | ISC LOS ANGELES CA 900
967-969 | P&DC HONOLULU HI 967.

293.47 Presort Mailings: Mixed Country—Price Groups 9 Through 14

293.471 General

Price groups 9 through 14 may be prepared in mixed country containers (ISC drop shipment price) only after all possible direct country containers have been prepared. Each mixed country price group must contain at least 5 pounds of mail that are destined within the same price group. The mailer must separately containerize items bearing customs forms from items not bearing customs forms and must prepare letter-size, flat-size, and package-size items in separate containers as defined in 293.472a and 293.472b. Smaller quantities qualify only for the worldwide nonpresort price under 293.49. The maximum container weight is 66 pounds.

293.472 Preparation

The mailer must prepare mixed country containers of presorted ISAL mail (ISC drop shipment price) as follows:

a. Letter-Size and Flat-Size Mail. For each mixed country tray of letter-size or flat-size mail, the mailer must do the following:

1. Mail Preparation. Prepare letter-size items in letter trays, either 1-foot or 2-foot, depending on volume. Prepare flat-size items in flat trays/tubs. Bundle letter-size and flat-size pieces as defined in 293.44 and each country must be bundled separately. Face all letter-size items and flat-size items in the same direction and apply a label (facing slip) to the top item as defined in 293.473. Cover (i.e., sleeve or lid) all letter-size trays and flat-size trays/tubs and secure them with strapping.

2. Container Tags. Complete the front side of PS Tag 155, International Surface Air Lift, which identifies the mail to ensure it receives priority handling. Identify the date of mailing, the 10-digit permit number, and the price group as listed in Exhibit 293.45a or 293.45b followed by the word “Mixed” (e.g., “14—Mixed”). Finally, tape PS Tag 155 to the tray cover.

b. Packages. For each mixed country container of package-size items, the mailer must do the following:

1. Mail Preparation. Prepare package-size items by placing them loose in sacks.

2. Container Tags. Complete the front side of PS Tag 155, International Surface Air Lift, which identifies the mail to ensure it receives priority handling. Identify the date of mailing, the 10-digit permit number, and the price group as listed in Exhibit 293.45a or 293.45b followed by the word “Mixed” (e.g., “14-Mixed”). Finally, attach PS Tag 155 to the neck of the sack.

293.473 Direct Country Bundle Label for Mixed Country Containers

Only letter-size and flat-size direct country bundles prepared for mixed country containers require a label (facing slip). The mailer must complete the label and place it on the address side of the top item of each bundle in such a manner that it will not become separated from the bundle. The pressure-sensitive labels and optional endorsement lines used domestically for presort mail are prohibited for ISAL service. Bundle labels must contain the following information:

Line 1: Foreign Office of Exchange Code. (See Exhibits 293.45a and 293.45b.)

Line 2: Country Labeling Name. (See Exhibits 293.45a and 293.45b.)

Line 3: Mailer, Mailer Location (City and State).

Example: VIE, AUSTRIA, ABC COMPANY WASHINGTON DC.

[Insert new 293.48 and 293.49 to read as follows:]

293.48 Presort Mailings—Price Groups 15 Through 19

293.481 General

Price groups 15 through 19 may be prepared in direct country containers (full-service price and ISC drop shipment price) or mixed country containers (ISC drop shipment price). Each direct country container must contain at least 2 pounds of mail. Each mixed country container must contain at least 5 pounds of mail. Smaller quantities qualify only for the worldwide nonpresort price under 293.49. The mailer must separately containerize items bearing customs forms from items not bearing customs forms. The maximum container weight is 66 pounds.

293.482 Preparation

The mailer has two options to prepare direct country or mixed country containers of presorted ISAL mail, as follows:

1. Prepare mail as described in 293.46 and 293.47, including using letter-size trays for letter-size items, flat-size trays/tubs for flat-size items, and sacks for package-size items.

2. Prepare mail in sacks for all processing categories as defined in 293.482 and 293.483.

293.483 Direct Country—Optional Sack Preparation

The mailer may optionally prepare direct country sacks or mixed country sacks of presorted ISAL mail when sacks are used for all processing categories as follows:

a. Full-Service and ISC Drop Shipment—Direct country sacks.

1. Preparation. Mail (letter-size, flat-size and package-size) that is addressed to an individual country and that contains 2 pounds or more must be sorted into direct country sacks. Mail that cannot be made up into direct country sacks must be prepared and entered as mixed country sacks (ISC Drop Shipment only) or the worldwide nonpresort price. The mailer must bundle letter-size and flat-size items as defined in 293.44. The mailer must bundle letter-size items and flat-size items separately, although nonidentical items may be commingled within each of these categories. Face all letter-size items and flat-size items in the same direction and apply a label (facing slip) to the top item as defined in 293.473. Place package-size items loose in the sack provided that items bearing customs forms are separated from items not bearing customs forms.

2. Container Tags. The mailer must complete the front side of PS Tag 155, International Surface Air Lift, which identifies the mail to ensure it receives priority handling. The mailer must check the appropriate box to indicate if the sack contains items with or without customs forms, identify the destination country, and enter the date of mailing, the 10-digit permit number, the foreign office of exchange code as listed in Exhibits 293.45a and 293.45b, and the price group as listed in Exhibits 293.45a and 294.45b. To the front side of the tag, the mailer must apply a barcode that indicates the mailer's permit number, the product code, the service type code, the container type, the shape type, the foreign office of exchange code, and the serial number of the sack. (To request technical specifications for the barcode, send an email to globalbusiness-sales@usps.gov). Finally, the mailer must attach PS Tag 155 to the neck of the sack.

3. Direct Country Container Label. A mailer who claims the ISC drop shipment price and enters the mail at an authorized drop shipment location under 293.532 is not required to prepare container labels. A mailer who claims the full-service price must complete 2-inch container labels (and insert them into the applicable container label holder) as follows (see Exhibit 293.483 for the list of U.S. Exchange Offices):

Line 1: Appropriate U.S. Exchange Office and Routing Code

Line 2: Contents—DRX COUNTRY

Line 3: Mailer, Mailer Location

Example: ISC NEW YORK NY 003, ISAL—DRX COUNTRY, ABC STORE ALBANY NY.

Exhibit 293.483

Labeling of ISAL Mail to Postal Service Exchange Offices [Full-service only]
ISAL acceptance office 3-digit ZIP Code prefix | U. S. exchange office and routing code for line 1
005, 010-089, 100-212, 214-268, 270-297, 400-418, 420-427, 470-477 | ISC NEW YORK NY 003.
006-009, 298-339, 341-342, 344, 346-347, 349-352, 354-399 | ISC MIAMI FL 33112.
424, 430-469, 478-516, 520-528, 530-532, 534-535, 537-551, 553-567, 570-577, 580-588, 600-620, 622-631, 633-641, 644-658, 660-662, 664-681, 683-693, 700-701, 703-708, 710-714, 716-731, 733-741, 743-799, 885 | ISC CHICAGO IL 60290.
590-599, 800-816, 820-838, 840-847, 893-895, 897-898, 937-961, 970-986, 988-999 | ISC SAN FRANCISCO CA 94013.
850-853, 855-857, 859-860, 863-865, 870-875, 877-884, 889-891, 900-908, 910-928, 930-936 967-969 | ISC LOS ANGELES CA 900. P&DC HONOLULU HI 967.

b. ISC Drop Shipment—Mixed country sacks.

1. Mixed country sacks can be prepared only after all possible direct country sacks have been prepared. Mailers must prepare mixed country sacks for items that contain 5 pounds or more and that are destined within the same price group. Mail that ultimately cannot be made up into direct country sacks or mixed country sacks must be prepared and entered at the worldwide nonpresort price. The mailer must bundle letter-size and flat-size items as defined in 293.44. The mailer must bundle letter-size and flat-size items separately, although nonidentical items may be commingled within each of these categories. Face all letter-size items and flat-size items in the same direction and apply a label (facing slip) to the top item as defined in 293.483. Place package-size items that cannot be bundled because of their physical characteristics loose in the sack provided that items bearing customs forms are separated from items not bearing customs forms.

2. Container Tags. The mailer must complete the front side of PS Tag 155, International Surface Air Lift, which identifies the mail to ensure it receives priority handling. On the front of the tag, the mailer must identify the date of mailing, the 10-digit permit number, and the price group as listed in Exhibits 293.45a and 293.45b followed by the word “Mixed” (e.g., “15-Mixed”). Finally, the mailer must attach PS Tag 155 to the neck of the sack.

293.483 Direct Country Bundle Label

Only letter-size and flat-size direct country bundles prepared for mixed country sacks require a label (facing slip). The mailer must complete the label and place it on the address side of the top item of each bundle in such a manner that it will not become separated from the bundle. The pressure-sensitive labels and optional endorsement lines used domestically for presort mail are prohibited for ISAL service. Bundle labels must contain the following information:

Line 1: Foreign Office of Exchange Code. (See Exhibits 293.45a and 293.45b.)

Line 2: Country Labeling Name. (See Exhibits 293.45a and 293.45b.)

Line 3: Mailer, Mailer Location (City and State).

Example: VIE, AUSTRIA, ABC COMPANY WASHINGTON DC.

293.49 Worldwide Nonpresort Preparation

The following standards apply when the mailer prepares worldwide nonpresort ISAL mail (full-service price and ISC drop shipment price):

a. General. A mailer claiming any mail at the direct country or mixed country price cannot enclose the mail in worldwide nonpresort sacks. The mailer must bundle letter-size and flat-size mail. All types of mail, including letter-size bundles, flat-size bundles, and loose items, can be commingled in the same sack. Labels (facing slips) are not required on any bundles. Containers other than sacks are not authorized unless other equipment is specified by the acceptance office—for example, nonpresorted letter-size mail may be presented in trays if authorized by the acceptance office. The maximum weight of any container is 66 pounds.

b. Worldwide Nonpresort Container Label. A mailer who claims the ISC drop shipment price and enters the mail at an authorized drop shipment location under 293.532 is not required to prepare container labels. A mailer who claims the full-service price must complete 2-inch container labels (and insert them into the applicable container label holder) as follows (see Exhibit 293.483 for the list of U.S. Exchange Offices):

Line 1: Appropriate U.S. Exchange Office and Routing Code

Line 2: Contents WKG

Line 3: Mailer, Mailer Location

Example: ISC MIAMI FL 33112, ISAL—WKG, ABC COMPANY MIAMI FL.

* * * * *

297 Customized Agreements

297.1 Description

[Revise 297.1 to read as follows:]

The Postal Service provides Global Expedited Package Services (GEPS) customized agreements to Priority Mail Express International, Priority Mail International, and First-Class Package International Service customers pursuant to the terms and conditions stipulated between the Postal Service and a particular customer.

* * * * *

3 Extra Services

* * * * *

370 International Money Transfer Services

* * * * *

372 Sure Money (DineroSeguro)

* * * * *

372.2 Options and Restrictions

The following restrictions apply to Sure Money service:

[Revise item a to read as follows:]

a. The maximum purchase per day is $1,500.

* * * * *

372.3 Fees

[Revise 372.3 to read as follows:]

See Exhibit 372.3 for the fees for Sure Money service.

Exhibit 372.3

Fees for Sure Money Service
Transaction type | Amount not over | Fee
Sales | $750 | $11.00
| $1,500 | $16.50
Refunds | $1,500 | $26.00
Change of Payee | $1,500 | $12.00

* * * * *

Individual Country Listings

* * * * *

Mexico

* * * * *

Priority Mail Express International (220) Price Group 2

[Revise the table to read as follows (increasing the maximum weight limit to 70 pounds):]

Refer to Notice 123, Price List, for the applicable retail, Commercial Base, or Commercial Plus price.
Weight Limit: 70 lbs.

* * * * *

Priority Mail International (230) Price Group 2

[Revise the table to read as follows (increasing the maximum weight limit to 70 pounds):]

Refer to Notice 123, Price List, for the applicable retail, Commercial Base, or Commercial Plus price.
Weight Limit: 70 lbs.

* * * * *

We will publish an appropriate amendment to 39 CFR part 20 to reflect these changes.

Stanley F. Mires,
Attorney, Legal Policy & Legislative Advice.

[FR Doc. 2013-27710 Filed 11-20-13; 8:45 am]

BILLING CODE 7710-12-P